DEPARTMENT OF HOUSING AND URBAN DEVELOPMENT

[Docket No. FR-4649-N-08]

Announcement of OMB Approval Number for Rental Rehabilitation Program

AGENCY: Office of the Assistant Secretary for Community Planning and Development, HUD.

ACTION: Announcement of OMB approval number.

SUMMARY: The purpose of this notice is to announce the OMB approval number for the collection of information pertaining to Rental Rehabilitation Program.

FOR FURTHER INFORMATION CONTACT: Mr. Frank Price, Department of Housing and Urban Development, 451 7th Street, NS., Washington, DC 20410, telephone (202) 708-2094. This is not a toll-free number.

SUPPLEMENTARY INFORMATION: In accordance with the Paperwork Reduction Act of 1995 (44 U.S.C. chapter 35, as amended), this notice advises that OMB has responded to the Department's request for approval of the information collection pertaining to Rental Rehabilitation Program. The OMB approval number for this information collection is 2506-0080, which expires on January 31, 2004.

An agency may not conduct or sponsor, and a person is not required to respond to, a collection of information, unless it displays a currently valid OMB control number.

Dated: February 15, 2001.
Donna M. Abbenante,
Acting General Deputy Assistant Secretary.

[FR Doc. 01-4789 Filed 2-26-01; 8:45 am]

BILLING CODE 4210-29-M